DEPARTMENT OF ENERGY

Federal Energy Regulatory Commission

[Docket No. RP00-257-000]

Ozark Gas Transmission, L.L.C.; Notice of Proposed Changes in FERC Gas Tariff

May 2, 2000.

Take notice that on April 28, 2000, Ozark Gas Transmission, L.L.C. (OGT) tendered for filing as part of its FERC Gas Tariff, Original Volume No. 1, the following tariff sheets, to be effective June 1, 2000:

First Revised Sheet No. 13

First Revised Sheet No. 17

First Revised Sheet No. 46

First Revised Sheet No. 47

First Revised Sheet No. 80

OGT states that the proposed rate changes would increase OGT's revenues from jurisdictional transportation services by approximately $6.4 million, based on the twelve-month period ended December 31, 1999, as adjusted, compared with the underlying rates approved in the Commission's 1998 certificate order which approved the combination of two pipeline systems into what is now the OGT system. Ozark Gas Transmission Sys., et al., 84 FERC ¶ 61,002, reh'g granted in part, 85 FERC ¶ 61,329 (1998).

OGT states that the adjustments in rates are attributable to: (a) a change in the required rate of return and related taxes; (b) a reduction in the depreciation rate to be applied to transmission plant; (c) changes in operation and maintenance expenses and the inclusion of income taxes not reflected in the currently effective rates; (d) revised system rate design quantities; and (e) a reduction in the percentage governing fuel retention to reflect decreased fuel requirements.

OGT further states that it has served copies of this filing upon the company's jurisdictional customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11362 Filed 5-5-00; 8:45 am]

BILLING CODE 6717-01-M